DEPARTMENT OF ENERGY

Federal Energy Regulatory Commission

[Docket No. CP01-414-000]

Williams Gas Pipelines Central, Inc.; Notice of Request Under Blanket Authorization

August 1, 2001.

Take notice that on July 25, 2001, Williams Gas Pipelines Central, Inc. (Williams), 3800 Frederica Street, Owensboro, Kentucky 42301, filed in Docket No. CP01-414-000 a request pursuant to Sections 157.205 and 157.208 of the Commission's Regulations under the Natural Gas Act (18 CFR Sections 157.205, 157.208) for authorization to increase the Maximum Allowable Operating Pressure (MAOP) of approximately 5.28 miles of the Neosho 6-inch-diameter lateral pipeline HQ-14 downstream of regulator setting #12278, including segments HQ-38 and HQ-35, located in Newton County, Missouri, under Williams' blanket certificate issued in Docket No. CP82-479-000, pursuant to Section 7 of the Natural Gas Act, all as more fully set forth in the request that is on file with the Commission and open to public inspection. Copies of this filing are on file with the Commission and are available for public inspection. This filing may also be viewed on the web at http://www.ferc.gov using the “RIMS” link, select “Docket#” and follow the instructions (call 202-208-2222 for assistance).

Williams proposes to increase the MAOP of the Neosho 6-inch-diameter lateral line from 150 psig to 226 psig. Williams states that it will perform the pressure test required for the proposed increase in MAOP using procedures in accordance with applicable Department of Transportation safety standards contained in Part 192 of Title 45 of the Code of Federal Regulations. Williams further states that all affected landowners will be notified of the proposed procedure by first class mail, and that there should be no adverse impact on the environment since the pressure test will be performed using natural gas. Williams estimates that the proposed testing will cost approximately $50,000.

Any questions regarding the application may be directed to David N. Roberts, Manager of Certificates and Tariffs, Williams Gas Pipelines Central, Inc., P.O. Box 20008, Owensboro, Kentucky 42304, or telephone (270) 688-6712.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act. Comments, protests and interventions may be filed electronically via the Internet in lieu of paper. See, 18 CFR 385.2001(a)(1)(iii) and the instructions on the Commission's web site under the “e-Filing” link.

David P. Boergers,
Secretary.

[FR Doc. 01-19707 Filed 8-6-01; 8:45 am]

BILLING CODE 6717-01-P